DEPARTMENT OF THE INTERIOR

National Park Service

[NPS-WASO-CONC-0111-6326; 2410-OYC]

Notice of Continuation of Visitor Services

AGENCY: National Park Service, Interior.

ACTION: Public notice.

DATES: Effective January 1, 2011.

FOR FURTHER INFORMATION CONTACT: Jo A. Pendry, Chief, Commercial Services Program, National Park Service, 1201 Eye Street, NW., 11th Floor, Washington, DC 20005, Telephone, (202) 513-7156.

SUMMARY: Pursuant to the terms of existing concession contracts, public notice is hereby given that the National Park Service intends to request a continuation of visitor services for a period not-to-exceed 1 (one) year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
NACC004-89 | Landmark Services Tourmobile, Inc | National Capital Parks—Central.
INDE001-94 | Concepts by Staid, Ltd | Independence National Historical Park.
SHEN001-85 | ARAMARK Sports & Entertainment Services, Inc | Shenandoah National Park.
DEVA002-81 | Xanterra Parks & Resorts, Inc | Death Valley National Monument.
LAKE001-73 | Rex G. Maughan & Ruth G. Maughan | Lake Mead National Recreation Area.
LAKE002-82 | Lake Mead RV Village, LLC | Lake Mead National Recreation Area.
LAKE005-97 | Rex G. Maughan | Lake Mead National Recreation Area.
LAKE006-74 | Las Vegas Boat Harbor, Inc. | Lake Mead National Recreation Area.
LAKE009-88 | Seven Resorts, Inc. | Lake Mead National Recreation Area.
OLYM001-78 | ARAMARK Sports & Entertainment, Inc | Olympic National Park.
OLYM002-89 | Log Cabin Resort, Inc | Olympic National Park.
ROLA003-87 | Ross Lake Resort, Inc | Ross Lake National Recreation Area.
AMIS002-89 | Forever Resorts | Amistad National Recreation Area.
AMIS003-87 | Forever Resorts | Amistad National Recreation Area.
CACH001-84 | White Dove, Inc. dba Thunderbird Lodge | Canyon de Chelly National Monument.
GLAC002-81 | Glacier Park, Inc | Glacier National Park.
GLCA002-88 | ARAMARK | Glen Canyon National Recreation Area.
GLCA003-69 | ARAMARK | Glen Canyon National Recreation Area.
GRTE003-97 | Rex G. and Ruth G. Maughan | Grand Teton National Park.
GRTE004-98 | Louise M. and Harold M. Bertschy dba Triangle X Ranch | Grand Teton National Park.
MEVE001-82 | ARAMARK | Mesa Verde National Park.
PEFO001-85 | Xanterra Parks & Resorts, LLC | Petrified Forest National Park.
HOSP002-94 | Buckstaff Bath House Company | Hot Springs National Park.
OZAR012-88 | Akers Ferry Canoe Rental, Inc | Ozark National Scenic Riverway.
OZAR016-89 | Carr's Grocery & Canoe Rental | Ozark National Scenic Riverway
BLRI001-93 | Southern Highland Handicraft Guild | Blue Ridge Parkway.
BLRI002-83 | Northwest Trading Post, Inc | Blue Ridge Parkway.
BLRI007-82 | Forever NPC Resorts, LLC | Blue Ridge Parkway.
CAHA001-98 | Avon-Thornton Limited Partnership | Cape Hatteras National Seashore.
CAHA002-98 | Cape Hatteras Fishing Pier, Inc | Cape Hatteras National Seashore.
CAHA004-98 | Oregon Inlet Fishing Center, Inc | Cape Hatteras National Seashore.
MACA002-82 | Forever Resorts, Inc | Mammoth Cave National Park.
VIIS001-71 | Caneel Bay, Inc | Virgin Islands National Park.

FOR FURTHER INFORMATION CONTACT: Jo A. Pendry, Chief, Commercial Services Program, National Park Service, 1201 Eye Street, NW., 11th Floor, Washington, DC 20005, Telephone (202) 513-7156.

Dated: January 10, 2011.
Katherine H. Stevenson,
Associate Director, Business Services.

[FR Doc. 2011-693 Filed 1-13-11; 8:45 am]

BILLING CODE 4312-53-P